DEPARTMENT OF TRANSPORTATION

Federal Transit Administration

[Docket Number: FTA-2009-0005]

Notice of Availability of Discussion Paper on the Evaluation of Economic Development

AGENCY: Federal Transit Administration (FTA), DOT.

ACTION: Notice of availability; request for comments.

SUMMARY: This notice announces the availability of the Federal Transit Administration's (FTA) discussion paper on the Evaluation of Economic Development and requests your comments on it. The paper describes one possible approach that could be used to evaluate economic development impacts of projects seeking New Starts funding. Economic development is one of the criteria that FTA uses to assess project justification, which, along with local financial commitment, informs FTA funding decisions for New Starts projects.

DATES: Comments must be received within 60 days after publication in the Federal Register. Late filed comments will be considered to the extent practicable.

ADDRESSES: You may submit comments [identified by the Docket Number FTA-2008-0053] by any of the following methods:

Web site: http://regulations.gov. Follow the instructions for submitting comments on the DOT electronic docket site.

Fax: 202-493-2251.

Mail: U.S. Department of Transportation, Docket Operations, M-30, West Building Ground Floor, Room W12-140, 1200 New Jersey Ave., SE., Washington, DC 20590.

Hand Delivery: U.S. Department of Transportation, Docket Operations, M-30, West Building Ground Floor, Room W12-140, 1200 New Jersey Ave., SE., Washington, DC 20590, between 9 a.m. and 5 p.m., Monday through Friday, except Federal Holidays.

Instructions: You must include the agency name (Federal Transit Administration) and the docket number (FTA-2009-0005). You should submit two copies of your comments if you submit them by mail. If you wish to receive confirmation that FTA received your comments, you must include a self-addressed stamped postcard. Note that all comments received will be posted without change to the federal government Web site located at http://regulations.gov. This means that if your comment includes any personal identifying information, such information will be made available to users of Web site.

FOR FURTHER INFORMATION CONTACT: Ron Fisher, Office of Planning and Environment, telephone (202) 366-4033. FTA is located at 1200 New Jersey Ave., SE., East Building, Washington, DC 20590. Office hours are from 9 a.m. to 5:30 p.m., Monday through Friday, except Federal holidays.

SUPPLEMENTARY INFORMATION: Although the discussion paper is reasonably detailed, FTA invites comments that may address broader areas of the evaluation of economic development as well as comments that address the level of detail described. Comments made on the discussion paper will be considered by FTA in its development of proposed policy guidance some time in the future on the approach for evaluation of economic development. That proposed policy guidance will also be published for notice and comment prior to being finalized.

FTA is departing from its usual approach of simply issuing proposed guidance and then final because no formal FTA approach to evaluation of this criterion exists, there is a broad diversity of views on the definition of economic development, and the state-of-the-practice for its evaluation is far behind that for more traditional measures of mobility improvements. FTA requests comments on the evaluation of economic development and specifically on the discussion paper, which is available in DOT's electronic docket at http://regulations.gov and on FTA's Web site at http://www.fta.dot.gov/planning/newstarts/planning_environment_5615.html.

Issued on: January 16, 2009.
Sherry E. Little,
Acting Administrator.

[FR Doc. E9-1545 Filed 1-23-09; 8:45 am]

BILLING CODE 4910-57-P